DEPARTMENT OF THE INTERIOR

Fish and Wildlife Service

Notice of Intent To Conduct Public Scoping Meetings To Obtain Suggestions and Information on Issues To Include in the Preparation of Comprehensive Conservation Plans for Cedar Island National Wildlife Refuge in Carteret County, North Carolina, and Pea Island National Wildlife Refuge in Dare County, NC

SUMMARY: This notice advises the public that the U.S. Fish and Wildlife Service intends to gather information necessary to prepare a Comprehensive Conservation Plan and associated environmental documents for both of these refuges pursuant to the National Environmental Policy Act and implementing regulations.

Meetings for Cedar Island National Wildlife Refuge to be conducted as follows:

Thursday, September 21, 2000, 12 Noon-3 p.m., Duke University Marine Laboratory Auditorium, 135 Duke Marine Lab Road, Beaufort, North Carolina 28516, 910/504-7504

Thursday, September 21, 2000, 6 p.m.-9 p.m., Cedar Island Community Center, 2208 Cedar Island Road, Cedar Island, North Carolina 28520, 910/225-2701

Meetings for Pea Island National Wildlife Refuge to be conducted as follows:

Monday, September 25, 2000, 1 p.m.-4 p.m., 6 p.m.-9 p.m., Rodanthe Community Center, 23186 Myrna Peters Road, Rodanthe, North Carolina 27968, 252/987-2503

Tuesday, September 26, 2000, 1 p.m.-4 p.m., 6 p.m.-9 p.m., North Carolina State Aquarium, 374 Airport Road, Manteo, North Carolina 27954, 252/473-3494, Ext. 258

DATES: Written comments should be received on or before September 27, 2000.

ADDRESSES: Comments and requests for information concerning these refuges may be addressed to: D.A. Brown, M.S., P.W.S., 1106 West Queen Street, P.O. Box 329, Edenton, North Carolina 27932, 252/482-2364, 252/482-3855 (fax), 252/337-5283 (cell).

Information concerning these refuges may be found at the following website: http://rtncf-rci.ral.r4.fws.gov.

If you wish to comment, you may submit your comments by any one of several methods. You may mail comments to the above address. You may also comment via the Internet to the following address: D_A_Brown@fws.gov. Please submit Internet comments as an ASCII file avoiding the use of special characters and any form of encryption. Please also include your name and return address in your Internet message. If you do not receive a confirmation from the system that we have received your Internet message, contact D.A. Brown directly at the above address. Finally, you may hand-deliver comments to Mr. Brown at 1106 West Queen Street, Edenton, North Carolina. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION: It is the policy of the Fish and Wildlife Service to have all lands within the National Wildlife Refuge System managed in accordance with an approved Comprehensive Conservation Plan. The plan guides management decisions and identifies the goals, objectives, and strategies for achieving refuge purposes. Public input into this planning process is encouraged. The plan will provide other agencies and the public with a clear understanding of the desired conditions of the refuge and how the Service will implement management strategies.

Cedar Island National Wildlife Refuge was authorized by the Migratory Bird Conservation Act (45 Stat. 1222, as amended 16 U.S.C. 715-715d) in August 1964, and Pea Island National Wildlife Refuge was established by Presidential Executive Order 7864 in April 1938. Both were established as a refuge and breeding ground for migratory birds and other wildlife.

Dated: July 24, 2000.
Sam D. Hamilton,
Regional Director.

[FR Doc. 00-19512 Filed 8-25-00; 8:45 am]

BILLING CODE 4310-55-M